DEPARTMENT OF LABOR

Employment and Training Administration

[TA-W-64,668]

Tenneco, Inc., Including On-Site Leased Workers From Elite Staffing, Inc., Cozad, NE; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 15, 2009, applicable to workers of Tenneco, Inc., Cozad, Nebraska. The notice was published in the Federal Register on February 2, 2009 (74 FR 5871).

At the request of the State agency, the Department reviewed the certification for workers of the subject firm. The workers are engaged in activities related to the production of shock absorbers.

New information shows that workers leased from Elite Staffing, Inc. were employed on-site at the Cozad, Nebraska location of Tenneco, Inc.

The Department has determined that these workers were sufficiently under the control of Tenneco, Inc. to be considered leased workers.

The intent of the Department's certification is to include all workers of the subject firm adversely affected as a supplier to a trade certified primary firm.

Based on these findings, the Department is amending this certification to include workers leased from Elite Staffing, Inc. working on-site at the Cozad, Nebraska location of the subject firm.

The amended notice applicable to TA-W-64,668 is hereby issued as follows:

All workers of Tenneco, Inc., including on-site leased workers from Elite Staffing, Inc., Cozad, Nebraska, who became totally or partially separated from employment on or after December 12, 2007, through January 15, 2011, are eligible to apply for adjustment assistance under Section 223 of the Trade Act of 1974, and are also eligible to apply for alternative trade adjustment assistance under Section 246 of the Trade Act of 1974.

Signed at Washington, DC this 8th day of December 2009.
Elliott S. Kushner,
Certifying Officer, Division of Trade Adjustment Assistance.

[FR Doc. E9-30249 Filed 12-18-09; 8:45 am]

BILLING CODE 4510-FN-P